DEPARTMENT OF COMMERCE

National Oceanic and Atmospheric Administration

Review of Nomination for Mariana Trench National Marine Sanctuary

AGENCY: Office of National Marine Sanctuaries (ONMS), National Ocean Service (NOS), National Oceanic and Atmospheric Administration (NOAA), Department of Commerce (DOC).

ACTION: Notice; request for written comments.

SUMMARY: The Office of National Marine Sanctuaries (ONMS) of the National Oceanic and Atmospheric Administration (NOAA) is requesting written comments to facilitate ONMS' five-year review of the nomination for the Mariana Trench National Marine Sanctuary (NMS) at the five-year interval. In particular, NOAA is requesting relevant information as it pertains to its 11 evaluation criteria for inclusion in the inventory. In this five-year review, NOAA will pay particular attention to any new information about the significance of the area's natural or cultural resources, changes to any threats to these resources, and any updates to the management framework of the area. NOAA has provided the original nominating parties, The Pew Charitable Trusts and Friends of the Marianas Trench, an opportunity to share their views on these same questions. Following this information gathering and internal analysis, NOAA will make a final determination on whether or not the Mariana Trench NMS nomination will remain in the inventory for another five-year period.

DATES: Written comments must be received by February 22, 2022. NOAA will conduct a virtual meeting on Saturday, February 12, 2022, from 10 a.m.-12 p.m. ChST (Guam/Commonwealth of the Northern Mariana Islands)/Friday, February 11, 2022, from 2 p.m.-4 p.m. HST (Hawai'i). NOAA may end the meeting before the time noted above if all those participating have completed their oral comments.

ADDRESSES: Comments may be submitted by one of the following methods:

• Federal eRulemaking Portal: https://www.regulations.gov. Submit electronic comments via the Federal eRulemaking Portal and search for Docket Number NOAA-NOS-2022-0005.

• Mail: Kristina Kekuewa, Pacific Islands Regional Director, NOAA Office of National Marine Sanctuaries, 1845 Wasp Blvd., Honolulu, Hawaii 96818.

• Email: Kristina.Kekuewa@noaa.gov.

• Public Scoping Meeting: Provide oral comments during a virtual public scoping meeting, as described under DATES. Webinar registration details and additional information about how to participate in the public scoping meeting is available at https://nominate.noaa.gov/5-year-review.html.

Instructions: All comments received are a part of the public record. All personal identifying information (for example, name and address) voluntarily submitted by the commenter may be publicly accessible. Do not submit confidential business information or otherwise sensitive or protected information. NOAA will accept anonymous comments (enter N/A in the required fields to remain anonymous).

FOR FURTHER INFORMATION CONTACT: Kristina Kekuewa, Pacific Islands Regional Director, NOAA Office of National Marine Sanctuaries, 1845 Wasp Blvd., Honolulu, Hawaii 96818, or at kristina.kekuewa@noaa.gov, or at 808-725-5252.

SUPPLEMENTARY INFORMATION:

Background Information

In 2014, NOAA issued a final rule re-establishing the sanctuary nomination process (SNP), which details how communities may submit nominations of areas of the marine and Great Lakes environment for NOAA to consider for designation as national marine sanctuaries (79 FR 33851). NOAA moves successful nominations to an inventory of areas that could be considered for national marine sanctuary designation. The final rule re-establishing the SNP included a five-year limit on any nomination added to the inventory that NOAA does not advance for designation.

In November 2019, NOAA issued a Federal Register notice (84 FR 61546) to clarify procedures for evaluating and updating a successful nomination as it approaches the five-year mark in the inventory of areas that could be considered for national marine sanctuary designation. This notice explained that if a nomination remains responsive to the evaluation criteria for inclusion in the inventory, it may be appropriate to allow the nomination to remain in the inventory for another five years. The notice also established a process for NOAA to consider the continuing viability of nominations nearing the five-year expiration mark.

The nomination for Mariana Trench NMS was accepted to the national inventory on March 13, 2017, and is therefore scheduled to expire on March 13, 2022. The full nomination can be found at https://nominate.noaa.gov/nominations/.

NOAA is not proposing to designate the Mariana Trench NMS with this action. Instead, NOAA is seeking public comment on ONMS' five-year review of the nomination for Mariana Trench NMS. Accordingly, written comments submitted as part of this request should not focus on whether NOAA should initiate the designation process for a Mariana Trench NMS. Rather, comments should address the relevance of the nomination towards NOAA's 11 evaluation criteria and any new information NOAA should consider about the nominated area (these criteria are detailed at https://nominate.noaa.gov/guide.html). Comments that do not pertain to the evaluation criteria, or present new information on the Mariana Trench NMS nomination, will not be considered in NOAA's decision on whether to retain this nomination in the inventory.

Whether removing or maintaining the nomination for Mariana Trench NMS, NOAA would follow the same procedure for notifying the public NOAA followed when the nomination was submitted, including a letter to the nominator, a notice in the Federal Register, and posting information on “nominate.noaa.gov”.

Authority: 16 U.S.C. 1431 et seq.

John Armor,
Director, Office of National Marine Sanctuaries, National Ocean Service, National Oceanic and Atmospheric Administration.

[FR Doc. 2022-01151 Filed 1-20-22; 8:45 am]

BILLING CODE 3510-NK-P